DEPARTMENT OF LABOR

Employment and Training Administration

Virtual Public Meeting of the Advisory Committee on Apprenticeship (ACA)

AGENCY: Employment and Training Administration (ETA), Labor.

ACTION: Notice of a virtual public meeting.

SUMMARY: Pursuant to the Federal Advisory Committee Act (FACA), notice is hereby given to announce a public meeting of the ACA to be held virtually on Wednesday, January 26, 2022. All meetings of the ACA are open to the public.

DATES: The meeting will begin at 3:30 p.m. Eastern Standard Time on Wednesday, January 26, 2022, at the following link: https://usdolevents.webex.com/usdolevents/onstage/g.php?MTID=eccf3473ce8c1bfc8dbec27fbd01c7bf5, and adjourn at 5:00 p.m. Any updates to the agenda and meeting logistics will be posted on the Office of Apprenticeship's website at: https://www.apprenticeship.gov/advisory-committee-apprenticeship/meetings.

FOR FURTHER INFORMATION CONTACT: The Designated Federal Officer, Mr. John V. Ladd, Administrator, Office of Apprenticeship, Employment and Training Administration, U.S. Department of Labor, 200 Constitution Avenue NW, Room C-5321, Washington, DC 20210; Email: AdvisoryCommitteeonApprenticeship@dol.gov; Telephone: (202) 693-2796 (this is not a toll-free number).

SUPPLEMENTARY INFORMATION: The ACA is a discretionary committee reestablished by the Secretary of Labor on May 4, 2021, in accordance with FACA (5 U.S.C. app. 2 10), as amended in 5 U.S.C. app. 2, and its implementing regulations (41 CFR 101-6 and 102-3). The first meeting of the ACA was held on October 6, 2021 and the second meeting of the ACA will be held on Wednesday, January 26, 2022.

Instructions To Attend the Meeting

All meeting are open to the public and in order to promote openness, and increase public participation, webinar and audio conference technology will be used to convene the meeting. Login instructions will be posted prominently on the Office of Apprenticeship's website at: https://www.apprenticeship.gov/advisory-committee-apprenticeship/meetings. If individuals have special needs and/or disabilities that will require special accommodations, please contact Kenya Huckaby at (202) 693-3795 or via email at huckaby.kenya@dol.gov no later than Tuesday, January 19, 2022.

Webinar and Audio Login Information

Please use the following link and password information to access the meeting.

• Webex Link: https://usdolevents.webex.com/usdolevents/onstage/g.php?MTID=eccf3473ce8c1bfc8dbec27fbd01c7bf5

• VoIP or dial: 877-465-7975

• Access Code: 2763 765 1591

• Meeting Password: Welcome!24

Any member of the public who wishes to file written data or comments pertaining to the agenda may do so by sending the data or comments to Mr. John V. Ladd via email at AdvisoryCommitteeonApprenticeship@dol.gov, subject line “January 2022 ACA Meeting.” Such submissions will be included in the record for the meeting if received by Tuesday, January 19, 2022. See below regarding members of the public wishing to speak at the ACA meeting.

Purpose of the Meeting and Topics To Be Discussed

The purpose of the January 2022, meeting is for the ACA to discuss the progress of each ACA subcommittee for full committee deliberation. The agenda topics for this meeting include the following:

• Departmental Apprenticeship Updates

• Apprentice Perspectives

• Subcommittee Report Outs

• Public Comment

• Adjourn

The agenda and meeting logistics may need to be updated should priority items come before the ACA between the time of this publication and the scheduled date of the ACA meeting. All meeting updates will be posted to the Office of Apprenticeship's website at: https://www.apprenticeship.gov/advisory-committee-apprenticeship/meetings. Any member of the public who wishes to speak at the meeting should indicate the nature of the intended presentation and the amount of time needed by furnishing a written statement to the Designated Federal Officer, Mr. John V. Ladd, via email at AdvisoryCommitteeonApprenticeship@dol.gov, by Tuesday, January 19, 2022. The Chairperson will announce at the beginning of the meeting the extent to which time will permit the granting of such requests.

Angela Hanks,
Acting Assistant Secretary for Employment and Training, Labor.

[FR Doc. 2022-00273 Filed 1-10-22; 8:45 am]

BILLING CODE 4510-FR-P